INTERNATIONAL TRADE COMMISSION

[Investigation No. 337-TA-1397]

Certain Cellular Base Station Communication Equipment, Components Thereof, and Products Containing Same; Notice of Commission Decision Not To Review an Initial Determination Terminating the Investigation Based on Settlement; Termination of Investigation

AGENCY: U.S. International Trade Commission.

ACTION: Notice.

SUMMARY: Notice is hereby given that the U.S. International Trade Commission (the “Commission”) has determined not to review an initial determination (“ID”) (Order No. 24) of the presiding Administrative Law Judge (“ALJ”) terminating the investigation based on settlement. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket system (“EDIS”) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On April 16, 2024, the Commission instituted this investigation based on a complaint filed by Motorola Mobility LLC (“Motorola”) of Chicago, Illinois. 89 FR 26918-19 (Apr. 16, 2024). The complaint, as supplemented, alleges violations of section 337 of the Tariff Act of 1930, as amended, 19 U.S.C. 1337 (“section 337”) based upon the importation into the United States, the sale for importation, and the sale within the United States after importation of certain cellular base station communication equipment, components thereof, and products containing same, by reason of the infringement of claims 10-18 of U.S. Patent No. 11,076,304 (“the '304 patent”) and claims 15-20 of U.S. Patent No. 11,711,706 (“the '706 patent”). Id. The Commission's notice of investigation named the following respondents: Ericsson AB and Telefonaktiebolaget LM Ericsson, both of Stockholm, Sweden, and Ericsson Inc. of Plano, Texas (collectively, “Ericsson”). Id. The Office of Unfair Import Investigations (“OUII”) was also named as a party in this investigation. Id.

On November 15, 2024, the Commission partially terminated the investigation as to claims 3, 6-9, 12-14, and 18 of the '304 patent and claims 3, 7-14, and 17-18 of the '706 patent. Order No. 15 (Oct. 23, 2024), unreviewed by Comm'n Notice (Nov. 15, 2024).

On December 23, 2024, the Commission issued a notice determining not to review an ID (Order No. 18) granting Motorola's motion for summary determination that the economic prong of the domestic industry requirement is satisfied with respect to the '304 and '706 patents, with the proviso that the Commission ultimately finds the technical prong likewise satisfied as to those patents. Order No. 18 (Nov. 25, 2024), unreviewed by Comm'n Notice (Dec. 23, 2024).

On April 18, 2025, Motorola and Ericsson (“collectively, the private parties”) filed a joint motion (“Motion”) to terminate the investigation based on settlement. On April 30, 2025, OUII filed a response in support of the motion provided that the private parties file a properly redacted public version of their agreements.

On May 5, 2025, the ALJ issued an order (Order No. 23) requesting further submissions regarding the public version of the private parties' agreements. See Order No. 23 (May 5, 2025). The ALJ directed the private parties to provide their supplemental submissions by email. Id.

On May 9, 2025, the ALJ issued the subject ID (Order No. 24) granting the Motion. The ID finds that the Motion complies with the requirements of Commission Rule 210.21(b)(1) (19 CFR 210.21(b)(1)). ID at 1-2. The ID notes that the private parties certify that “other than the two agreements filed with the Commission, `there are no other agreements, written or oral, express or implied between the private parties concerning the subject matter of this Investigation.'” Id. at 2. Additionally, the ID finds that “[the public version of the agreements] contain redactions only for information that qualifies as confidential business information under Commission Rule 201.6(a)” (19 CFR 201.6(a)). The ID also finds that “termination of this investigation by settlement will not adversely affect the public interest.” Id. at 3 (citing 19 CFR 210.50(b)(2)).

No party filed a petition for review.

The Commission has determined not to review the subject ID. The investigation is terminated.

The Commission's vote for this determination took place on May 28, 2025.

The authority for the Commission's determination is contained in section 337 of the Tariff Act of 1930, as amended (19 U.S.C. 1337), and in Part 210 of the Commission's Rules of Practice and Procedure (19 CFR part 210).

By order of the Commission.
Issued: May 28, 2025.
Lisa Barton,
Secretary to the Commission.

[FR Doc. 2025-09962 Filed 6-2-25; 8:45 am]

BILLING CODE 7020-02-P